DEPARTMENT OF ENERGY

Federal Energy Regulatory Commission

Combined Notice of Filings #1

Take notice that the Commission received the following electric corporate filings:

Docket Numbers: EC16-21-000.

Applicants: Sandstone Solar LLC.

Description: Application for Authorization Under Section 203 of the Federal Power Act, Request for Expedited Consideration and Confidential Treatment of Sandstone Solar LLC.

Filed Date: 10/29/15.

Accession Number: 20151029-5611.

Comments Due: 5 p.m. ET 11/19/15.

Take notice that the Commission received the following electric rate filings:

Docket Numbers: ER15-2267-001.

Applicants: Chevron Power Holdings Inc.

Description: Notice of Non-Material Change in Status of Chevron Power Holdings Inc.

Filed Date: 10/30/15.

Accession Number: 20151030-5206.

Comments Due: 5 p.m. ET 11/20/15.

Docket Numbers: ER16-167-001.

Applicants: ISO New England Inc., New England Power Pool Participants Committee.

Description: Tariff Amendment: Part 2 of Two-Part Filing of Demand Response Changes to be effective 6/1/2016.

Filed Date: 10/30/15.

Accession Number: 20151030-5185.

Comments Due: 5 p.m. ET 11/20/15.

Docket Numbers: ER16-170-000.

Applicants: Champion Energy Services, LLC.

Description: § 205(d) Rate Filing: Market-Based Rate Tariff Revisions to be effective 10/30/2015.

Filed Date: 10/29/15.

Accession Number: 20151029-5523.

Comments Due: 5 p.m. ET 11/19/15.

Docket Numbers: ER16-171-000.

Applicants: Champion Energy Marketing LLC.

Description: § 205(d) Rate Filing: Market-Based Tariff Revisions to be effective 10/30/2015.

Filed Date: 10/29/15.

Accession Number: 20151029-5527.

Comments Due: 5 p.m. ET 11/19/15.

Docket Numbers: ER16-172-000.

Applicants: Champion Energy, LLC.

Description: § 205(d) Rate Filing: Market-Based Rate Tariff Revisions to be effective 10/30/2015.

Filed Date: 10/29/15.

Accession Number: 20151029-5533.

Comments Due: 5 p.m. ET 11/19/15.

Docket Numbers: ER16-173-000.

Applicants: Black Hills/Colorado Electric Utility Co.

Description: Compliance filing: Corrections to OATT Table of Contents to be effective 12/29/2015.

Filed Date: 10/29/15.

Accession Number: 20151029-5575.

Comments Due: 5 p.m. ET 11/19/15.

Docket Numbers: ER16-174-000.

Applicants: Southern California Edison Company.

Description: § 205(d) Rate Filing: 2016 RSBAA Update Filing to be effective 1/1/2016.

Filed Date: 10/30/15.

Accession Number: 20151030-5000.

Comments Due: 5 p.m. ET 11/20/15.

Docket Numbers: ER16-175-000.

Applicants: Southern California Edison Company.

Description: § 205(d) Rate Filing: 2016 TRBAA Update Filing to be effective 1/1/2016.

Filed Date: 10/30/15.

Accession Number: 20151030-5001.

Comments Due: 5 p.m. ET 11/20/15.

Docket Numbers: ER16-176-000.

Applicants: Southern California Edison Company.

Description: § 205(d) Rate Filing: SCE 2016 ETC Reliability Service Rate Update to be effective 1/1/2016.

Filed Date: 10/30/15.

Accession Number: 20151030-5007.

Comments Due: 5 p.m. ET 11/20/15.

Docket Numbers: ER16-177-000.

Applicants: Duke Energy Florida, LLC.

Description: § 205(d) Rate Filing: RCID NITSA Amendment OATT SA No. 147 to be effective 1/1/2016.

Filed Date: 10/30/15.

Accession Number: 20151030-5083.

Comments Due: 5 p.m. ET 11/20/15.

Docket Numbers: ER16-178-000.

Applicants: Public Service Company of Colorado.

Description: § 205(d) Rate Filing: 2015-10-30_Joint Dispatch Svc-Rnd 2-Filing to be effective 1/1/2016.

Filed Date: 10/30/15.

Accession Number: 20151030-5145.

Comments Due: 5 p.m. ET 11/20/15.

Docket Numbers: ER16-179-000.

Applicants: Northern States Power Company, a Minnesota corporation.

Description: Notice of Cancellation of Transmission Service Agreement, Rate Schedule 512 of Northern States Power Company, a Minnesota corporation.

Filed Date: 10/30/15.

Accession Number: 20151030-5156.

Comments Due: 5 p.m. ET 11/20/15.

Docket Numbers: ER16-180-000.

Applicants: Public Service Company of Colorado.

Description: § 205(d) Rate Filing: 2015-10-30_JDA to be effective 1/1/2016.

Filed Date: 10/30/15.

Accession Number: 20151030-5157.

Comments Due: 5 p.m. ET 11/20/15.

Docket Numbers: ER16-181-000.

Applicants: Northern States Power Company (Minnesota), Northern States Power Company, a Minnesota corporation.

Description: Notice of Cancellation of Facilities Agreement, Rate Schedule 512 of Northern States Power Company, a Minnesota corporation.

Filed Date: 10/30/15.

Accession Number: 20151030-5159.

Comments Due: 5 p.m. ET 11/20/15.

Docket Numbers: ER16-182-000.

Applicants: Cameron Ridge II, LLC.

Description: Baseline eTariff Filing: Baseline new to be effective 12/31/2015.

Filed Date: 10/30/15.

Accession Number: 20151030-5161.

Comments Due: 5 p.m. ET 11/20/15.

Docket Numbers: ER16-183-000.

Applicants: Midcontinent Independent System Operator.

Description: § 205(d) Rate Filing: 2015-10-30_SA 1375 ATC-White Pine 3rd Rev GIA (J143) to be effective 10/31/2015.

Filed Date: 10/30/15.

Accession Number: 20151030-5196.

Comments Due: 5 p.m. ET 11/20/15.

Docket Numbers: ER16-184-000.

Applicants: DTE Electric Company.

Description: § 205(d) Rate Filing: DTE Electric Reactive Revenue for Dean Facility to be effective 10/1/2015.

Filed Date: 10/30/15.

Accession Number: 20151030-5199.

Comments Due: 5 p.m. ET 11/20/15.

Docket Numbers: ER16-185-000.

Applicants: New York Independent System Operator, Inc.

Description: § 205(d) Rate Filing: 205 flng—Increase elgblty spcl mrkt rls gnrtors srvng NYC steam dstrbtn systm to be effective 12/29/2015.

Filed Date: 10/30/15.

Accession Number: 20151030-5205.

Comments Due: 5 p.m. ET 11/20/15.

Docket Numbers: ER16-186-000; ER16-187-000; ER16-188-000; ER16-189-000; ER16-190-000; ER16-191-000.

Applicants: Coalinga Cogeneration Company, Kern River Cogeneration Company, Mid-Set Cogeneration Company, Salinas River Cogeneration Company, Sargent Canyon Cogeneration Company, Sycamore Cogeneration Company.

Description: Notice of Cancellation of Market-Based Rate Tariffs filed by Chevron Power Holdings Inc. on behalf of the Chevron Partnerships.

Filed Date: 10/30/15.

Accession Number: 20151030-5208.

Comments Due: 5 p.m. ET 11/20/15.

Docket Numbers: ER16-192-000.

Applicants: New England Power Pool Participants Committee.

Description: § 205(d) Rate Filing: Oct. 30, 2015 Membership Filing to be effective 11/1/2015.

Filed Date: 10/30/15.

Accession Number: 20151030-5218.

Comments Due: 5 p.m. ET 11/20/15.

Docket Numbers: ER16-193-000.

Applicants: PacifiCorp.

Description: § 205(d) Rate Filing: WECC Unscheduled Flow Mitigation Plan Rev 2 to be effective 1/1/2016.

Filed Date: 10/30/15.

Accession Number: 20151030-5234.

Comments Due: 5 p.m. ET 11/20/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 30, 2015.
Nathaniel J. Davis, Sr.,
Deputy Secretary.

[FR Doc. 2015-28208 Filed 11-4-15; 8:45 am]

BILLING CODE 6717-01-P